DEPARTMENT OF HEALTH AND HUMAN SERVICES

Substance Abuse and Mental Health Services Administration

Changes to the National Registry of Evidence-Based Programs and Practices (NREPP); Correction

Authority: Sec. 501, Pub. L. 106-310.

SUMMARY: The Substance Abuse and Mental Health Services Administration (SAMHSA) published a notice regarding changes to the National Registry of Evidence-based Programs and Practices (NREPP) in the March 14, 2006 Federal Register. This document contained several comments from the American Psychological Association's Division 50 Committee on Evidence-based Practice that were incorrectly attributed to the full American Psychological Association.

FOR FURTHER INFORMATION CONTACT: Dr. Kevin Hennessy, (240) 276-2234.

Correction

In the Federal Register of March 14, 2006, FR volume 71, no. 49, the following comments were attributed to the American Psychological Association's Committee on Evidence-based Practice, and should have been attributed to the American Psychological Association's Division 50 Committee on Evidence-based Practice. These comments should be corrected as follows:

Page 13133, Column 3—The American Psychological Association (APA) Division 50 Committee on Evidence-based Practice recommended greater emphasis on the utility descriptors (i.e., those items describing material and resources to support implementation), stating, “these are key outcomes for implementation and they are not adequately addressed in the description of NREPP provided to date. This underscores earlier concerns noted about the transition from efficacy to effectiveness.” The APA Division 50 committee noted that generalizability of programs listed on NREPP will remain an issue until this “gap between efficacy and effectiveness” is explicitly addressed under a revised review system.

Page 13140, Column 1—the American Psychological Association (APA) Division 50 Committee on Evidence-based Practice recommended more emphasis on the utility descriptors “as these are key outcomes for implementation and they are not adequately addressed in the description of NREPP provided to date. This underscores earlier concerns noted about the transition from effectiveness to efficacy.”

Page 13140, Columns 1 and 2—The possibility that NREPP will exclude programs due to lack of funding was a concern voiced by several organizations, including the National Association for Children of Alcoholics, the APA Division 50 Committee on Evidence-based Practice the National Association of State Alcohol and Drug Abuse Directors, Community Anti-Drug Coalitions of America, and the California Association of Alcohol and Drug Program Executives.

Page 13140, Column 3—A number of respondents noted the proposed NREPP approach does not acknowledge provider effects on treatment outcomes. The APA Division 50 Committee on Evidence-based Practice wrote, “Relationship factors in a therapeutic process may be more important than specific interventions and may in fact be the largest determinant in psychotherapy outcome (see Lambert & Barley, 2002). How will NREPP address this concern and make this apparent to users?”

Page 13141, Column 2—The APA Division 50 Committee on Evidence-based Practice suggested that the proposed NREPP approach does not adequately distinguish between “efficacy” and “effectiveness,” and strongly recommended that SAMHSA look for ways to bridge the two.

Page 13142, Column 1—A group of university researchers recommended that for programs to be included in NREPP, they should be required to provide statistically significant results on drug use and/or mental health outcomes using two-tailed tests of significance at p <.05. The APA Division 50 Committee on Evidence-based Practice recommended further discussion and consideration by NREPP of the conceptual distinction between statistical and clinical significance.

Page 13142, Column 3—The APA Division 50 Committee on Evidence-based Practice argued that “including all of these NREPP products is seen as a desirable feature that reflects the continuous nature of evidence. This may also be critical information for providing reasonable options for stakeholders when there are not or few evidence-based practices available.”

Page 13143, Column 2—The APA Division 50 Committee on Evidence-based Practice suggested that SAMHSA develop “a comprehensive glossary that addresses definitions of different constituencies, populations, and settings.”

Page 13144, Column 3—The APA Division 50 Committee on Evidence-based Practice recommended that SAMHSA “anticipate misuses of NREPP so as to insure that funding bodies do not mistakenly assume that improving treatment comes from confining treatment to a list of recommended techniques.”

Page 13146, Columns 2—The APA Division 50 Committee on Evidence-based Practice suggested using a site glossary to define diagnostic terminology and client populations and communities.

Dated: April 3, 2006.
Charles G. Curie,
Administrator.

[FR Doc. 06-3538 Filed 4-12-06; 8:45 am]

BILLING CODE 4160-01-M